DEPARTMENT OF ENERGY

Federal Energy Regulatory Commission

Second Notice of Technical Conference

November 30, 2007.

Interconnection Queuing Practices | Docket No. AD08-2-000
Midwest Independent Transmission System Operator | Docket No. ER07-1375-000
Midwest Independent Transmission System Operator | Docket No. ER07-970-000
Southwest Power Pool | Docket No. ER07-1311-000
PacifiCorp | Docket No. OA07-54-000
United States Department of Energy Bonneville Power Administration | Docket No. NJ08-2-000

As announced in the “Notice of Technical Conference” issued on November 2, 2007, a technical conference will be held on Tuesday, December 11, 2007 from 9:30 a.m. to approximately 4:30 p.m. (EST) (changed from the starting and closing times listed in the previous notice), in the Commission Meeting Room of the Federal Energy Regulatory Commission (FERC) at 888 First Street, NE., Washington, DC 20426. Commissioners will be attending this conference.

The Commission issued Order No. 2003 to standardize the agreements and procedures related to the interconnection of large generating facilities.¹ The Commission found that “[a] standard set of procedures as part of the OATT for all jurisdictional transmission facilities will minimize opportunities for undue discrimination and expedite the development of new generation, while protecting reliability and ensuring that rates are just and reasonable.” ² Key to appropriately balancing these goals was a set of comprehensive queue management procedures. However, some regions are experiencing various issues in attempting to manage their queues. Surges in the volume of new generation development are taxing the current queue management approach for interconnections in some regions. Comparable issues have arisen in the transmission service queues for similar reasons. Additionally, the unprecedented demand in some regions for new types of generation, principally renewable generation, places further stress on the current queue management approach because such generation technologies can, for example, be brought online more quickly than traditional generation. Finally, some regions have implemented new capacity markets that did not exist when the current queue management approach was developed and are struggling with how to adjust queue management to accommodate those new markets.

¹ Standardization of Generator Interconnection Agreements and Procedures, Order No. 2003, FERC Stats. & Regs. ¶ 31,146 (2003), order on reh'g, Order No. 2003-A, FERC Stats. & Regs. ¶ 31,160, order on reh'g, Order No. 2003-B, FERC Stats. & Regs. ¶ 31,171 (2004), order on reh'g, Order No. 2003-C, FERC Stats. & Regs. ¶ 31,190 (2005), aff'd sub nom. Nat'l Ass'n of Regulatory Util. Comm'rs v. FERC, 475 F.3d 1277 (D.C. Cir. 2007). See also Standardization of Small Generator Interconnection Agreements and Procedures, Order No. 2006, FERC Stats. & Regs. ¶ 31,180, order on reh'g, Order No. 2006-A, FERC Stats. & Regs. ¶ 31,196 (2005), order granting clarification, Order No. 2006-B, FERC Stats. & Regs. ¶ 31,221 (2006), appeal pending sub nom. Consol. Edison Co. of N.Y., Inc. v. FERC, Nos. 06-1275, et al. (D.C. Cir. filed July 14, 2006 and later); Interconnection for Wind Energy, Order No. 661, FERC Stats. & Regs. ¶ 31,186 (2005), order on reh'g, Order No. 661-A, FERC Stats. & Regs. ¶ 31,198 (2005).

² Order No. 2003, FERC Stats. & Regs. ¶ 31,146 at P 11.

The purpose of this conference is to discuss possible methods to address the current challenges of queue management while still honoring the Order No. 2003 goals described above. Panelists should identify the steps and timeframes necessary to implement specific proposals. The agenda for the conference is attached.

Transcripts of the conference will be immediately available from Ace Reporting Company (202-347-3700 or 1-800-336-6646) for a fee. Additionally, a free webcast of this event will be available through http://www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

FERC conferences are accessible under section 508 of the Rehabilitation Act of 1973. For accessibility accommodations please send an e-mail to accessibility@ferc.gov or call toll free 1-866-208-3372 (voice) or 202-208-8659 (TTY), or send a FAX to 202-208-2106 with the required accommodations.

For further information about the conference, please contact: Sarah McKinley, Office of External Affairs, (202) 502-8368, sarah.mckinley@ferc.gov; or Mary Morton, Energy Innovations Sector, Office of Energy Markets and Regulation, (202) 502-8040, mary.morton@ferc.gov.

Kimberly D. Bose,
Secretary.

[FR Doc. E7-23782 Filed 12-6-07; 8:45 am]

BILLING CODE 6717-01-P